DEPARTMENT OF ENERGY

Federal Energy Regulatory Commission

[Docket No. CP16-121-000]

Notice of Revised Schedule for Environmental Review of the Fields Point Liquefaction Project, National Grid LNG, LLC

May 18, 2018.

This notice identifies the Federal Energy Regulatory Commission staff's revised schedule for the completion of the environmental assessment (EA) for National Grid LNG, LLC's (National Grid) Fields Point Liquefaction Project. The original notice of schedule, issued on September 15, 2017, identified March 30, 2018, as the EA issuance date. Due to staff's request for supplemental engineering information that was recently filed by National Grid, staff has revised the schedule for issuance of the EA.

Schedule for Environmental Review

Issuance of EA—June 25, 2018

90-Day Federal Authorization Decision Deadline—September 23, 2018

If a schedule change becomes necessary, additional notice will be provided so that the relevant agencies are kept informed of the project's progress.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the project is available from the Commission's Office of External Affairs at (866) 208-FERC or on the FERC website (www.ferc.gov). Using the “eLibrary” link, select “General Search” from the eLibrary menu, enter the selected date range and “Docket Number” excluding the last three digits (i.e., CP16-121), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Kimberly D. Bose,
Secretary.

[FR Doc. 2018-11177 Filed 5-23-18; 8:45 am]

BILLING CODE 6717-01-P